ENVIRONMENTAL PROTECTION AGENCY

40 CFR Part 63

[EPA-HQ-OAR-2006-0406, FRL-8540-2]

RIN 2060-AM74

National Emission Standards for Hazardous Air Pollutants for Source Categories: Gasoline Distribution Bulk Terminals, Bulk Plants, and Pipeline Facilities; and Gasoline Dispensing Facilities; Correction

AGENCY: Environmental Protection Agency (EPA).

ACTION: Final rule; correction.

SUMMARY: This action corrects certain text of the final rules entitled “National Emission Standards for Hazardous Air Pollutants for Source Categories: Gasoline Distribution Bulk Terminals, Bulk Plants, and Pipeline Facilities; and Gasoline Dispensing Facilities.” The final rules were published in the Federal Register on January 10, 2008.

DATES: Effective Date: March 7, 2008.

FOR FURTHER INFORMATION CONTACT: Mr. Stephen Shedd, Office of Air Quality Planning and Standards, Sector Policies and Programs Division, Coatings and Chemicals Group (E143-01), EPA, Research Triangle Park, NC 27711, telephone: (919) 541-5397, facsimile number: (919) 685-3195, e-mail address: shedd.steve@epa.gov.

SUPPLEMENTARY INFORMATION:

I. What Is the Background for the Corrections?

On January 10, 2008 (73 FR 1916), EPA issued final rules in which EPA promulgated national emission standards for hazardous air pollutants for gasoline distribution bulk terminals, bulk plants, and pipeline facilities and for gasoline dispensing facilities. EPA subsequently determined that certain sections of the final rules contained incorrect references to paragraphs within those and other sections. This action corrects those technical errors.

These corrections do not affect the substance of the final rules, nor do they change the rights or obligations of any party. Rather, this action merely corrects certain technical errors in the references in the final rules. Thus, it is proper to issue these corrections to the final rules without notice and comment. Section 553 of the Administrative Procedure Act (APA), 5 U.S.C. 553(b)(B), provides that, when an agency for good cause finds that notice and public procedure are impracticable, unnecessary, or contrary to the public interest, the agency may issue a rule without providing notice and an opportunity for public comment. We have determined that there is good cause for making this action final without prior proposal and opportunity for comment because the changes to the final rules are minor technical corrections, are noncontroversial, and do not substantively change the agency actions taken in the final rules. Thus, notice and public procedure are unnecessary. We find that this constitutes good cause under 5 U.S.C. 553(b)(B).

II. What Are the Corrections to the Final Rules (73 FR 1916)?

This notice corrects the following errors. In adding four test methods to 40 CFR 63.14 through Incorporation by Reference, we incorrectly assigned new paragraph numbers to be added to 40 CFR 63.14 that were already in use. To correct this error, it is necessary to change the paragraph numbers that we are assigning to the four test methods being incorporated by reference. The test method added as § 63.14(b)(63) should have been added as § 63.14(b)(65) and the three test methods added as § 63.14(l)(1), (2), and (3) should have been added as § 63.14(m)(1), (2), and (3).

EPA has also determined that the text of 40 CFR 63.11092 and 40 CFR 63.11095 of subpart BBBBBB and 40 CFR 63.11117 of subpart CCCCCC contains incorrect references. In 40 CFR 63.11092 of subpart BBBBBB, paragraph (a)(3) included a reference to conduct an initial performance test within 180 days of the “rule promulgation” date. The rule mistakenly referred to the “promulgation” date instead of the “compliance” date. Thus, the text “rule promulgation” will be replaced with the text “compliance date specified in § 63.11083”. Also, in 40 CFR 63.11092 of subpart BBBBBB, paragraph (b)(1)(i)(B)(1) included a reference to “(b)(1)(i)(B)(1)(i), (ii), and (iii) of this section” when the reference should be to “(b)(1)(i)(B)(1)(i), (ii), and (iii) of this section”. In 40 CFR 63.11095 of subpart BBBBBB, paragraph (c) included a reference to “(a)(3) and (b)(4) of this section” when the reference should be to “(a)(3) and (b)(5) of this section”. In subpart CCCCCC, 40 CFR 63.11117, paragraph (e) included a reference to “§ 63.11124(b)” when the reference should be to “§ 63.11124(a)”. In 40 CFR 63.11118, paragraph (c) included two improper references to “paragraphs (a) and (b)” and “§ 63.11116” when the references should be to “paragraph (b)” and “§ 63.11117”, respectively. Also, in 40 CFR 63.11124, paragraph (a) refers to “(a)(1) through (4) of this section” but section (a)(4) does not exist, so the text will be corrected to refer to “(a)(1) through (3) of this section”. Additionally, in 40 CFR 63.11124, paragraph (a)(1)(iii) refers to “(a), (b) and (c)(1) or paragraph (c)(2) of § 63.11117” but, while paragraph (c) exists, paragraphs (c)(1) and (c)(2) do not exist, so the text will be corrected to refer to “(a) through (c) of § 63.11117”. In 40 CFR 63.11124, paragraph (b)(1)(iii) refers to “(a) through (d) of § 63.11118” but paragraph (d) does not have options for the owner or operator to choose from and therefore notification information is not needed, so the text will be corrected to refer to “(a) through (c) of § 63.11118”.

III. Statutory and Executive Order Reviews

Under Executive Order 12866, Regulatory Planning and Review (58 FR 51735, October 4, 1993), this action is not a “significant regulatory action” and is, therefore, not subject to review by the Office of Management and Budget (OMB). This action is a correction to certain text in the final rules and is not a “major rule” as defined by 5 U.S.C. 804(2). The final rules themselves, however, were reviewed by OMB. The corrections do not impose an information collection burden under the provisions of the Paperwork Reduction Act of 1995 (44 U.S.C. 3501, et seq.). Because EPA has made a “good cause” finding that this action is not subject to notice-and-comment requirements under the APA or any other statute, it is not subject to the regulatory flexibility provisions of the Regulatory Flexibility Act (5 U.S.C. 601, et seq.), or to sections 202 and 205 of the Unfunded Mandates Reform Act of 1995 (UMRA) (Public Law 104-4). In addition, this action does not significantly or uniquely affect small governments or impose a significant intergovernmental mandate, as described in sections 203 and 204 of the UMRA. This technical correction action also does not significantly or uniquely affect the communities of tribal governments, as specified in Executive Order 13175, Consultation and Coordination with Indian Tribal Governments (65 FR 67249, November 9, 2000). The corrections do not have substantial direct effects on the States, on the relationship between the national government and the States, or on the distribution of power and responsibilities among the various levels of government, as specified in Executive Order 13132, Federalism (64 FR 43255, August 10, 1999). The corrections also are not subject to Executive Order 13045, Protection of Children from Environmental Health Risks and Safety Risks (62 FR 19885, April 23, 1997) because the final rules were determined not to be subject to this order and this action does not significantly change the final rules.

This technical correction action does not involve changes to the technical standards related to test methods or monitoring methods; thus, the requirements of section 12(d) of the National Technology Transfer and Advancement Act of 1995 (15 U.S.C. 272) do not apply. The corrections also do not involve special consideration of environmental justice-related issues as required by Executive Order 12898, Federal Actions to Address Environmental Justice in Minority Populations and Low-Income Populations (59 FR 7629, February 16, 1994).

The corrections are not subject to Executive Order 13211, Actions Concerning Regulations That Significantly Affect Energy Supply, Distribution, or Use (66 FR 28355, May 22, 2001) because this action is not a significant regulatory action under Executive Order 12866.

The Congressional Review Act, 5 U.S.C. 801, et seq., as added by the Small Business Regulatory Enforcement Fairness Act of 1996, generally provides that before a rule may take effect, the agency promulgating the rule must submit a rule report, which includes a copy of the rule, to each House of the Congress and to the Comptroller General of the United States. EPA will submit a report containing this final action and other required information to the United States Senate, the United States House of Representatives, and the Comptroller General of the United States prior to publication of this action in the Federal Register. This action is not a “major rule” as defined by 5 U.S.C. 804(2). This correction is effective March 7, 2008.

EPA's compliance with the above statutes and Executive Orders for the underlying rule is discussed in the January 10, 2008 Federal Register notice containing “National Emission Standards for Hazardous Air Pollutants for Source Categories: Gasoline Distribution Bulk Terminals, Bulk Plants, and Pipeline Facilities; and Gasoline Dispensing Facilities” (73 FR 1916).

List of Subjects for 40 CFR Part 63

Environmental protection, Administrative practice and procedures, Air pollution control, Incorporations by reference, Intergovernmental relations, Reporting and recordkeeping requirements.

Dated: February 29, 2008.
Robert J. Meyers,
Principal Deputy Assistant Administrator.

For the reasons set out in the preamble, title 40, chapter I, part 63 of the Code of Federal Regulations is amended as follows:

PART 63—[AMENDED]

1. The authority citation for part 63 continues to read as follows:

Authority: 42 U.S.C. 7401, et seq.

Subpart A—[Amended]

§ 63.14 [Amended]

2. Section 63.14 is amended as follows:

a. By redesignating paragraph (b)(63) as paragraph (b)(65).

b. By redesignating paragraph (l) as paragraph (m).

Subpart BBBBBB—[Amended]

§ 63.11092 [Amended]

3. Section 63.11092 is amended as follows:

a. In paragraph (a)(3) by removing the words “rule promulgation” and adding in their place the words “compliance date specified in § 63.11083”.

b. In paragraph (b)(1)(i)(B)(1) by removing the words “(b)(1)(i)(B)(1)(i), (ii), and (iii) of this section.” and adding in their place the words “(b)(1)(i)(B)(1)(i), (ii), and (iii) of this section.”

§ 63.11095 [Amended]

4. Section 63.11095 is amended in paragraph (c) by removing the citation “(b)(4)” and adding in its place “(b)(5)”.

Subpart CCCCCC—[Amended]

§ 63.11117 [Amended]

5. In § 63.11117, paragraph (e) is amended by removing the citation “§ 63.11124(b)” and adding in its place the citation “§ 63.11124(a)”.

§ 63.11118 [Amended]

6. In § 63.11118, paragraph (c) introductory text is amended by removing the words “paragraphs (a) and (b) of this section, but must comply with the requirements in § 63.11116.” and adding in their place the words “paragraph (b) of this section, but must comply with the requirements in § 63.11117.”

§ 63.11124 [Amended]

7. Section 63.11124 is amended as follows:

a. In paragraph (a) introductory text is amended by removing the citation “(4)” and adding in its place the citation “(3)”.

b. In paragraph (a)(1)(iii) introductory text is amended by removing the citation “(a), (b) and (c)(1) or paragraph (c)(2)” and adding in its place the citation “(a) through (c)”.

c. In paragraph (b)(1)(iii) introductory text is amended by removing the citation “(a) through (d)” and adding in its place the citation “(a) through (c)”.

[FR Doc. E8-4554 Filed 3-6-08; 8:45 am]

BILLING CODE 6560-50-P